DEPARTMENT OF COMMERCE

International Trade Administration

[A-201-830]

Notice of Postponement of Final Antidumping Duty Determination and Extension of Provisional Measures: Carbon and Certain Alloy Steel Wire Rod from Mexico.

AGENCY: Import Administration, International Trade Administration, Department of Commerce.

EFFECTIVE DATE: April 26, 2002.

FOR FURTHER INFORMATION CONTACT: Marin Weaver at (202) 482-2336 or Charles Riggle at (202) 482-0650, AD/CVD Enforcement, Office V, DAS Group II, Import Administration, International Trade Administration, U.S. Department of Commerce, 14th Street and Constitution Avenue NW, Washington, DC 20230.

Postponement of Final Determinations:

The Department of Commerce (the Department) is postponing the final determination in the antidumping duty investigation of carbon and certain alloy steel wire rod (steel wire rod) from Mexico.

On April 10, 2002, the Department published its preliminary determination in this investigation. See Notice of Preliminary Determination of Sales at Less Than Fair Value: Carbon and Certain Alloy Steel Wire Rod from Mexico, (67 FR 17397). The notice stated that the Department would issue its final determination no later than 75 days after the date of issuance of the notice.

Pursuant to section 735(a)(2)(A) of the Tariff Act of 1930, as amended (the Act), on April 10, 2002 Siderurgica Lazaro Cardenas Las Truchas S.A. de C.V. (SICARTSA), the sole respondent in the investigation, requested that the Department postpone its final determination. Further to this request, SICARTSA requested that the Department extend to not more than six months the application of the provisional measures prescribed under paragraphs (1) and (2) of section 733(d) of the Act. In accordance with section 735(a) of the Act and 19 CFR 351.210(b), because the preliminary determination in this case is affirmative and the request for postponement was submitted in writing by an exporter who accounts for a significant proportion of exports of the subject merchandise in this investigation, we are postponing the final determination until no later than 135 days after the publication of the preliminary determination in the Federal Register (i.e., until no later than August 23, 2002). Suspension of liquidation will be extended accordingly.

This postponement is in accordance with section 735(a)(2)(A) of the Act, and 19 CFR 351.210(b)(2).

Dated: April 17, 2002
Bernard T. Carreau,
Acting Assistant Secretaryfor Import Administration.

[FR Doc. 02-10350 Filed 4-25-02; 8:45 am]

BILLING CODE 3510-DS-S